DEPARTMENT OF DEFENSE

Department of the Air Force

U.S. Air Force Scientific Advisory Board Notice of Meeting; Notice of Intent (NOI) To Prepare an Environmental Impact Statement (EIS) for Proposed Realignment of a Portion of National Guard Avenue and Construction of the New Main Gate for the 158th Fighter Wing, Vermont Air National Guard at Burlington International Airport, Burlington, VT

AGENCY: National Guard Bureau.

ACTION: Notice of intent.

SUMMARY: Pursuant to the National Environmental Policy Act (NEPA) of 1969, as amended (42 U.S.C. 4321, et seq.), the Council on Environmental Quality (CEQ) Regulations for Implementing the Procedural Provisions of NEPA (40 CFR Parts 1500-1508), and Air Force policy and procedures (32 CFR Part 989), the National Guard Bureau is issuing this notice to advise the public of its intent to prepare an EIS to evaluate the potential environmental impacts that could result from the proposed realignment of a portion of National Guard Avenue, and construction of a new main gate at the 158th Fighter Wing (158 FW) installation at Burlington International Airport.

A recent evaluation of infrastructure security at the installation identified several vulnerabilities revealing a potential threat to mission-critical resources. Realignment of a segment of National Guard Avenue would remedy some of these vulnerabilities, and protect mission-critical resources. Work conducted would be in compliance with anti-terrorism/force protection (AT/FP) standoff criteria. Preliminary studies indicate that potential significant adverse effects to wetlands and to sensitive Native American sites may result from realignment of the roadway. In addition to the road segment realignment, the 158 FW would also construct a new main gate along a portion of the realigned roadway, construct a new Security Forces facility, which would be collocated with the new main gate, and construct an internal roadway loop that would improve vehicular safety and circulation to a portion of the installation.

In addition to the proposed action, another action alternative will evaluate the potential impacts of an alternative roadway alignment for National Guard Avenue, and redesigning the main gate in its current location to meet AT/FP criteria. The Security Forces and internal roadway loop would remain as described under the Proposed Action. The no-action alternative will also be analyzed in the EIS.

The National Guard Bureau will conduct a scoping meeting to solicit public input concerning the proposal. The scoping process will help identify issues to be addressed in the environmental analysis. Comments will be accepted at any time during the environmental impact analysis process. However, to ensure the Air Force has sufficient time to consider public input in the preparation of the Draft EIS, comments should be submitted to the address below by 16 April 2009.

Notices will be posted and published in the Burlington Free Press. The scoping meetings will be held at the South Burlington High School, Cafeteria #2, 550 Dorset Street, South Burlington, VT 05403, on 16 April 2009, from 6-9 p.m.

FOR FURTHER INFORMATION CONTACT: Please direct any written comments or requests for information to Robert Dogan, NGB/A7AM, at Conaway Hall, 3500 Fetchet Avenue, Andrews Air Force Base, Maryland 20762-5157; (301) 836-8859; or fax (301) 836-7428.

Bao-Anh Trinh,
Air Force Federal Register Liaison Officer.

[FR Doc. E9-7054 Filed 3-27-09; 8:45 am]

BILLING CODE 5001-05-P